DEPARTMENT OF TRANSPORTATION

Federal Aviation Administration

14 CFR Part 39

[Docket No. FAA-2006-26490; Directorate Identifier 2006-CE-075-AD]

RIN 2120-AA64

Airworthiness Directives; Alpha Aviation Design Limited (Type Certificate No. A48EU Previously Held by APEX Aircraft and AVIONS PIERRE ROBIN) Model R2160 Airplanes

AGENCY: Federal Aviation Administration (FAA), Department of Transportation (DOT).

ACTION: Supplemental notice of proposed rulemaking (NPRM); reopening of the comment period.

SUMMARY: We are revising an earlier NPRM for the products listed above. This proposed AD results from mandatory continuing airworthiness information (MCAI) originated by an aviation authority of another country to identify and correct an unsafe condition on an aviation product. The MCAI describes the unsafe condition as:

To prevent failure of the wing structure and assembly components due to undetected fatigue and corrosion * * *

The proposed AD would require actions that are intended to address the unsafe condition described in the MCAI.

DATES: We must receive comments on this proposed AD by March 6, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Comments Invited

We invite you to send any written relevant data, views, or arguments about this proposed AD. Send your comments to an address listed under the ADDRESSES section. Include “Docket No. FAA-2006-26490; Directorate Identifier 2006-CE-075-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We proposed to amend 14 CFR part 39 with an earlier NPRM for the specified products, which was published in the Federal Register on October 11, 2007 (72 FR 57896). That earlier NPRM proposed to require actions intended to address the unsafe condition for the products listed above.

Since that NPRM was issued, public comments have resulted in changes to the preamble and body of the proposed AD. The changes to the body of the proposed AD add a burden that necessitates a supplemental NPRM and re-opening of the comment period.

Relevant Service Information

AVIONS PIERRE ROBIN (recent type certificate responsibility was with APEX Aircraft and current responsibility is with Alpha Aviation Design Limited) has issued Mandatory Service Bulletin No. 123, revision 3, dated December 23, 1999.

The actions described in this service information are intended to correct the unsafe condition identified in the MCAI.

Comments

We have considered the following comments received on the earlier NPRM.

Comment Issue No. 1: The AD Action Reflects Current FAA Registry Numbers of Affected Aircraft

Mr. Richard Martindale states that there are 9 airplanes of the affected model on the U.S. registry. However, he states that 1 of these 9 airplanes was destroyed in an accident. He also believes that 1 airplane has been exported to Central America. Mr. Martindale concludes that only 7 airplanes of U.S. registry will be affected by the proposed AD. He recommends that we revise the estimated number of airplanes affected to 7 or 8 airplanes.

Since the U.S. registry includes 9 airplanes, we will identify this as the affected number of aircraft in the Cost of Compliance section.

Comment Issue No. 2: Remove Reference to Avions Pierre Robin Service Bulletin No. 123, Revision 2

Mr. Martindale states that the MCAI references Robin Aviation Service Bulletin No. 123, revision 3, dated December 23, 1999, and that this service bulletin refers to actions in Avions Pierre Robin Service Bulletin No. 123, revision 2, dated November 14, 1995, which has been superseded and is unavailable. He recommends that the AD action rely only on Robin Aviation Service Bulletin No. 123, revision 3, dated December 23, 1999.

We agree with the commenter and will remove reference to Avions Pierre Robin Service Bulletin No. 123, revision 2, dated November 14, 1995, for repair of any defects.

The reference will remain in certain areas of the Actions and Compliance section because previous accomplishment of certain actions in revision 2 determines what actions in revision 3 actions should be done. Evidence of revision 2 accomplishment should be determinable from the records of the affected airplanes.

Comment Issue No. 3: Clarify Inspection Requirements for This Proposed AD and the Requirements of AD 99-10-01

Mr. Martindale requests that we clarify the inspection requirements of this proposed AD with the requirements of AD 99-10-01. He also states that the 750-hour repetitive inspection is missing from the proposed AD.

We agree that there is a need to clarify the inspection requirements of this proposed AD with the requirements of AD 99-10-01. The FAA will explain that the 3,500-hour inspection is 3,500 hours time-in-service (TIS) of new bolts, and thereafter, repetitively inspect every 750 hours. We will add a periodic 750 hours TIS inspection to paragraph (f)(2) of the proposed AD.

Comment Issue No. 4: Revise the Labor Rate

Mr. Martindale states that labor rates in the southern California area are $100 per work-hour or more and not the estimated $80 per work-hour used in the NPRM. He also notes that the majority of currently registered aircraft are located in California; thus, the estimated cost of compliance is understated. Mr. Martindale recommends that we use a rate of at least $100 per work-hour.

We are not allowed to accept this recommendation. The U.S. Office of Personnel Management (OPM) established the average labor rates based on an average of the national rate. The rate of $80 per work-hour is the current rate provided by OPM and is the rate the FAA must use for all AD actions.

We are not changing the cost of compliance as a result of this comment.

Comment Issue No. 5: Costs of Compliance Are Understated

Mr. Martindale states that the costs of compliance do not consider other factors that drive up the costs to do the proposed AD actions. He recommends that we revise the estimated cost of compliance to include not only parts and labor costs but to also include the estimated cost of procuring or fabricating ground support equipment that enable the required work to be performed in a safe manner. The AD should also address in the estimated cost of compliance the financial risk to operators due to the unavailability of required ground support equipment and/or to the unavailability of mechanics with sufficient experience on the affected aircraft model to perform the required tasks.

The FAA estimates the cost of the AD action based on approximate work-hours and cost of parts. We have no way of determining the cost an individual operator would incur in obtaining proper tooling.

We are not changing the cost of compliance as a result of this comment.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Certain changes described above expand the scope of the earlier NPRM. As a result, we have determined that it is necessary to reopen the comment period to provide additional opportunity for the public to comment on the proposed AD.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

We estimate that this proposed AD will affect 9 products of U.S. registry. We also estimate that it will take about 15 work-hours per product to comply with basic requirements of this proposed AD. The average labor rate is $80 per work-hour. Required parts will cost about $1,326 per product.

Based on these figures, we estimate the cost of this proposed AD to the U.S. operators to be $22,734 or $2,526 per product.

We have no way to determine what aircraft will need replacement parts that may be required based on the results of any inspection.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Alpha Aviation Design Limited (Type Certificate No. A48EU previously held by Apex Aircraft and AVIONS PIERRE ROBIN): Docket No. FAA-2006-26490; Directorate Identifier 2006-CE-075-AD.

Comments Due Date

(a) We must receive comments by March 6, 2008.

Affected ADs

(b) None.

Applicability

(c) This AD applies to Model R2160 airplanes, serial numbers 001 through 378, certificated in any category.

Subject

(d) Air Transport Association of America (ATA) Code: 57: Wings.

Reason

(e) The mandatory continuing airworthiness information (MCAI) states:

To prevent failure of the wing structure and assembly components due to undetected fatigue and corrosion * * *

The MCAI requires that you inspect the wing structure and fuselage attachment and repair any defects that you find.

Actions and Compliance

(f) Unless already done, do the following actions:

(1) Disassemble the wings from the fuselage and inspect the wing structure and assembly components using instruction No. 1 in Robin Aviation Service Bulletin No. 123, revision 3, dated December 23, 1999. If any defects are found, repair following Robin Aviation Service Bulletin No. 123, revision 3, dated December 23, 1999. Use the following compliance times for the inspection:

(i) For airplanes with less than 4,000 hours time-in-service (TIS): When the airplane reaches a total of 3,500 hours TIS or within the next 100 hours TIS after the effective date of this AD, whichever occurs later, and thereafter at intervals not to exceed 750 hours TIS.

(ii) For airplanes with 4,000 hours TIS or more that have not complied with the special instruction in paragraph E of Avions Pierre Robin Service Bulletin No. 123, revision 2, dated November 14, 1995: Within the next 100 hours TIS after the effective date of this AD and thereafter at intervals not to exceed 750 hours TIS.

(iii) For airplanes with 4,000 hours TIS or more that have complied with the special instruction in paragraph E of Avions Pierre Robin Service Bulletin No. 123, revision 2, dated November 14, 1995: Within the next 750 hours TIS after the effective date of this AD and thereafter at intervals not to exceed 750 hours TIS.

(2) When the airplane reaches a total of 3,500 hours TIS with original wing-to-fuselage bolts installed or 3,500 hours TIS of an airplane since new bolts have been installed or within the next 100 hours TIS after the effective date of this AD, whichever occurs later, do a non-destructive inspection of the wing-to-fuselage retaining bolts and replace any bolts that do not pass this inspection following instruction No. 2 in Robin Aviation Service Bulletin No. 123, revision 3, dated December 23, 1999. Thereafter, repetitively inspect wing-to-fuselage retaining bolts and replace any bolts that do not pass this inspection every 750 hours TIS following instruction No. 2 in Robin Aviation Service Bulletin No. 123, revision 3, dated December 23, 1999.

Note 1: The requirement for a 3,500-hour inspection is a time since new or time since installation (that is, the TIS of new bolts).

(3) Within the next 50 hours TIS after re-assembling the wing and thereafter at intervals not to exceed 100 hours TIS, inspect the wing-to-fuselage retaining bolts for correct torque settings following instruction No. 3 in Robin Aviation Service Bulletin No. 123, revision 3, dated December 23, 1999. The required torque value is 22 ft-lb with nut part number 95.24.39.010. Tighten to 16 ft-lb (pre-loading) and then torque from 16 to 22 ft-lb.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Related Information

(h) Refer to MCAI Civil Aviation Authority AD DCA/R2000/28, dated September 28, 2006, and Robin Aviation Mandatory Service Bulletin No. 123, revision 3, dated December 23, 1999, for related information.

Issued in Kansas City, Missouri, on January 30, 2008.
John Colomy,
Acting Manager, Small Airplane Directorate, Aircraft Certification Service.

[FR Doc. E8-2047 Filed 2-4-08; 8:45 am]

BILLING CODE 4910-13-P